DEPARTMENT OF TRANSPORTATION

Federal Aviation Administration

14 CFR Part 39

[Docket No. FAA-2012-0999; Directorate Identifier 2012-NM-049-AD; Amendment 39-17300; AD 2012-26-05]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter series airplanes, Model A330-200 series airplanes, Model A330-300 series airplanes, Model A340-200 series airplanes, and Model A340-300 series airplanes. This AD was prompted by a report of an in-flight turn back after the nose landing gear (NLG) did not retract after take-off. This AD requires repetitive overhaul of the NLG retraction actuator. We are issuing this AD to prevent failure of the retraction actuator, which could cause collapse of the NLG after touchdown and possible injury to flightcrew and passengers.

DATES: This AD becomes effective February 6, 2013.

The Director of the Federal Register approved the incorporation by reference of certain publications listed in this AD as of February 6, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 24, 2012 (77 FR 58789). That NPRM proposed to correct an unsafe condition for the specified products. The Mandatory Continuing Airworthiness Information (MCAI) states:

An A330 aeroplane experienced an in-flight turn back due to inability to retract the NLG [nose landing gear] after take-off.

The subsequent technical investigations revealed that the NLG retraction actuator eye-end fitting was detached from the retraction actuation rod, that both the eye-end male threads and piston rod female threads were almost completely stripped, and that there was evidence of significant corrosion on these parts. Further investigations have shown that corrosion caused the retraction actuator eye failure.

This condition, if not corrected, could lead to NLG collapse after touchdown, potentially resulting in damage to the aeroplane and injury to its occupants.

For the reasons described above, this [European Aviation Safety Agency (EASA)] AD requires accomplishment of an overhaul of the NLG retraction actuator. This [EASA] AD also defines the Time Between Overhaul (TBO) for the NLG retraction actuator to be 10 years.

You may obtain further information by examining the MCAI in the AD docket.

Comments

We gave the public the opportunity to participate in developing this AD. We received no comments on the NPRM (77 FR 58789, September 24, 2012) or on the determination of the cost to the public.

Conclusion

We reviewed the available data and determined that air safety and the public interest require adopting the AD as proposed except for minor editorial changes. We have determined that these minor changes:

• Are consistent with the intent that was proposed in the NPRM (77 FR 58789, September 24, 2012) for correcting the unsafe condition; and

• Do not add any additional burden upon the public than was already proposed in the NPRM (77 FR 58789, September 24, 2012).

Costs of Compliance

We estimate that this AD will affect 65 products of U.S. registry. We also estimate that it will take about 16 work-hours per product to comply with the basic requirements of this AD. The average labor rate is $85 per work-hour. Based on these figures, we estimate the cost of this AD to the U.S. operators to be $88,400 or $1,360 per product.

Should an operator elect to accomplish an optional replacement instead, we estimate that any optional replacement action would take about 16 work-hours and require parts costing $94,000 for a cost of $95,360 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 58789, September 24, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-26-05 Airbus: Amendment 39-17300. Docket No. FAA-2012-0999; Directorate Identifier 2012-NM-049-AD.

(a) Effective Date

This airworthiness directive (AD) becomes effective February 6, 2013.

(b) Affected ADs

None.

(c) Applicability

This AD applies to the airplanes, certificated in any category, identified in paragraphs (c)(1) and (c)(2) of this AD.

(1) Airbus Model A330-201, A330-202, A330-203, A330-223, A330-223F, A330-243, A330-243F, A330-301, A330-302, A330-303, A330-321, A330-322, A330-323, A330-341, A330-342, and A330-343 airplanes, all manufacturer serial numbers (MSN).

(2) Airbus Model A340-211, A340-212, A340-213, A340-311, A340-312, and A340-313 airplanes, all MSN.

(d) Subject

Air Transport Association (ATA) of America Code 32; Landing gear.

(e) Reason

This AD was prompted by a report of an in-flight turn-back after the nose landing gear (NLG) did not retract after take-off. We are issuing this AD to prevent failure of the retraction actuator, which could cause collapse of the NLG after touchdown and possible injury to flightcrew and passengers.

(f) Compliance

You are responsible for having the actions required by this AD performed within the compliance times specified, unless the actions have already been done.

(g) Actions

At the applicable compliance time specified in paragraph (g)(1) or (g)(2) of this AD, whichever occurs later: Do an overhaul of the NLG retraction actuator, in accordance with the Accomplishment Instructions of Airbus Mandatory Service Bulletin A330-32-3255, dated October 13, 2011 (for Model A330 series airplanes); or Airbus Mandatory Service Bulletin A340-32-4291, dated October 13, 2011 (for Model A340 series airplanes). Repeat the overhaul thereafter at intervals not to exceed 10 years.

(1) Prior to the accumulation of 10 years since the NLG retraction actuator's first flight on an airplane, or from its first flight following its last overhaul.

(2) At the applicable time specified in paragraphs (g)(2)(i) and (g)(2)(ii) of this AD.

(i) If, on the effective date of this AD, the NLG retraction actuator has accumulated more than 8 years, and less than 14 years, from its first flight on an airplane: Within 24 months after the effective date of this AD, or prior to the accumulation of 15 years since the NLG retraction actuator's first flight on an airplane, whichever occurs first.

(ii) If, on the effective date of this AD, the NLG retraction actuator has accumulated 14 years or more since its first flight on an airplane: Within 12 months after the effective date of this AD.

(h) Parts Installation Limitation

As of the effective date of this AD, no person may install on an airplane any NLG retraction actuator, unless it has been overhauled in accordance with the requirements of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency Airworthiness Directive 2012-0034, dated February 29, 2012, and the service information identified in paragraphs (j)(1) and (j)(2) of this AD, for related information.

(1) Airbus Mandatory Service Bulletin A330-32-3255, dated October 13, 2011.

(2) Airbus Mandatory Service Bulletin A340-32-4291, dated October 13, 2011.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-32-3255, dated October 13, 2011.

(ii) Airbus Mandatory Service Bulletin A340-32-4291, dated October 13, 2011.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 17, 2012.
Kalene C. Yanamura,
Acting Manager, Transport Airplane Directorate, Aircraft Certification Service.

[FR Doc. 2012-31004 Filed 12-31-12; 8:45 am]

BILLING CODE 4910-13-P